SECURITIES AND EXCHANGE COMMISSION

[Release No. 34-52376A; File No. SR-NASD-2005-102]

Self-Regulatory Organizations; National Association of Securities Dealers, Inc.; Notice of Filing and Immediate Effectiveness of Proposed Rule Change and Amendment No. 1 Thereto To Allow Members To Report Certain Trades in Exchange-Listed Securities Through the Execution Services of the Nasdaq Market Center

September 7, 2005.

Correction

On September 1, 2005, the Commission issued notice on a proposed rule change by the National Association of Securities Dealers, Inc. (“NASD”), through its subsidiary, The Nasdaq Stock Market, Inc. (“Nasdaq”).¹ The proposed rule text in the first paragraph of NASD Rule 4720 should state as follows below. Proposed new language is in italics; proposed deletions are in brackets.

¹ See Exchange Act Release No. 52376 (September 1, 2005).

Subject to the conditions set forth below, members may utilize the Nasdaq Market Center to report trades in Nasdaq Market Center eligible securities required or eligible to be reported to Nasdaq pursuant to the Rule 4630, 4640, 4650, [and] 6100 and 6400 Series.”

For the Commission, by the Division of Market Regulation, pursuant to delegated authority.²
² 17 CFR 200.30-3(a)(12).
Jonathan G. Katz,
Secretary.

[FR Doc. E5-4979 Filed 9-12-05; 8:45 am]

BILLING CODE 8010-01-P